DEPARTMENT OF TRANSPORTATION

National Highway Traffic Safety Administration

[Docket No. NHTSA-2023-0016]

Request for Comments; CISS Expansion

AGENCY: National Highway Traffic Safety Administration (NHTSA), DOT.

ACTION: Notice and request for comments.

SUMMARY: On November 15, 2021, Congress passed the Bipartisan Infrastructure Law (BIL). Under § 24108(e) Congress authorizes the Secretary of Transportation to enhance the collection of crash data by upgrading the Crash Investigation Sampling System (CISS) to include—(1) additional program sites; (2) an expanded scope that includes all crash types; and (3) on-scene investigation protocols. The NHTSA is conducting a comprehensive review of the Crash Investigation Sampling System (CISS) sample design and data collection methods as part of a major effort to upgrade CISS. Users of CISS and other crash data may comment as to the future utility of current CISS, recommend ways to upgrade current CISS, and indicate their anticipated data needs. All comments should be submitted via Docket number NHTSA-2023-0016.

DATES: Comments must be submitted on or before June 5, 2023.

ADDRESSES: You may submit comments identified by the Docket No. NHTSA-2023-0016 through any of the following methods:

• Electronic submissions: Go to the Federal eRulemaking Portal at http://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays. To be sure someone is there to help you, please call (202) 366-9322 before coming.

Instructions: All submissions must include the agency name and docket number for this notice. Note that all comments received will be posted without change to http://www.regulations.gov, including any personal information provided. Please see the Privacy Act heading below.

Privacy Act: Anyone can search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For questions relating to the redesign effort, please contact Tina Morgan, National Center for Statistics and Analysis, NHTSA, telephone: (202) 366-9253, email: tina.morgan@dot.gov. She may also be reached at 1200 New Jersey Avenue SE, NSA-010, Washington, DC 20590.

SUPPLEMENTARY INFORMATION:

Title: Data Review for the upgrade of Crash Investigation Sampling System (CISS).

Background: NHTSA is undertaking an effort to upgrade the Crash Investigation Sampling System (CISS) by adding data collection sites, expanding the scope of crashes investigated and using on-scene investigation protocols.

CISS collects crash data on a nationally representative sample of crashes involving at least one passenger vehicle—cars, light trucks, sport utility vehicles, and vans—towed from the scene. CISS collects real-world crash data that identifies the primary factors related to crashes and their injury outcome. CISS data is used throughout the world by stakeholders, researchers, manufacturers, other Federal agencies, and safety advocates for making vehicles and highways safer. The data enables stakeholders to make informed regulatory, program, and policy decisions regarding vehicle design and traffic safety.

The CISS began implementation in 2015 and by 2018 was collecting crash data from thirty-two (32) fully operational sites. The current scope of crashes in CISS is limited to crashes involving at least one passenger vehicle towed from the scene. There are very few crashes in CISS involving a non-motorist, motorcyclist or large vehicle. CISS investigates about 4,000 crashes annually making it sometimes difficult to identify new or emerging crash trends and containing an adequate number of rare crashes or crashes involving a non-motorist, motorcycle, large vehicle, or a vehicle with new technology for meaningful analysis. However, the original sample was designed to be flexible and scalable to accommodate different types of crashes and increase the number of data collection sites without redesigning the site sample. NHTSA plans to utilize these capabilities to increase the number of data collection sites and types of crashes included in CISS. These changes will increase the number of crashes investigated annually, reduce variance of key estimates, and expand the current scope of crashes.

The current CISS investigation process selects crashes to be investigated usually 3 to 7 days after the crash. Then crash technicians locate, visit, measure, and photograph the crash scene; locate, inspect, and photograph vehicles; conduct a telephone or personal interview in specific crashes with the involved individuals or surrogate (another person who can provide occupant or crash information, such as parents of a minor, or a parent or spouse for the deceased individual); and obtain and record injury information received from various medical data sources. From the time of the crash to the time of investigation, critical evidence from the scene can be destroyed, altered or removed, vehicles can be hard to locate or repaired, and people involved tend to forget information related to the crash. To obtain this critical information, on-scene or rapid response investigations protocols would be required. On-scene protocols involve crash investigators arriving at the scene of the crashes before the crash scene is cleared allowing investigators to collect critical evidence and interview drivers or witnesses while the crash is still fresh. Rapid response protocols are where crash investigators arrive at the scene of the crash 1-2 days after the crash.

NHTSA is pursuing data improvement initiatives that will enhance the amount of data collected and the quality of the data collected in CISS as authorized by BIL.

This effort includes the following major objectives:

• Add more data collection sites to increase the number of crashes collected and reduce the variance of estimates,

• Expand the scope of crashes investigated to collect real-world data for crashes involving other types of vehicles and non-motorists (pedestrian, pedalcyclist, etc.); and

• Utilize rapid response investigation protocols to collect data sooner than the current method to reduce the loss of critical information needed from the scene, vehicle and people involved.

In order to meet these objectives, NHTSA invites stakeholders to comment on the types of crashes to include in CISS, propose new data elements for new crash types, make suggestions on the improving timeliness of investigation protocols or notification and identification of crashes, and make any other suggestions they feel NHTSA should consider in an attempt to improve crash data collection.

For more information about CISS can be reviewed on NHTSA's websites: https://www.nhtsa.gov/crash-data-systems/crash-investigation-sampling-system. Current CISS data elements, coding instructions, and descriptive materials can be reviewed on NHTSA's website at: https://crashstats.nhtsa.dot.gov/#!/PublicationList/110 and the CISS crash viewer at: https://crashviewer.nhtsa.dot.gov/CISS/SearchIndex.

Chou-Lin Chen,
Associate Administrator for the National Center for Statistics and Analysis.

[FR Doc. 2023-07071 Filed 4-4-23; 8:45 am]

BILLING CODE P